DEPARTMENT OF TRANSPORTATION

Federal Aviation Administration

14 CFR Part 39

[Docket No. 2001-NM-400-AD; Amendment 39-13527; AD 2004-06-01]

RIN 2120-AA64

Airworthiness Directives; Dornier Model 328-100 Series Airplanes

AGENCY: Federal Aviation Administration, DOT.

ACTION: Final rule.

SUMMARY: This amendment adopts a new airworthiness directive (AD), applicable to certain Dornier Model 328-100 series airplanes, that requires replacement of the existing main landing gear (MLG) leg assembly with a modified assembly. This action is necessary to prevent fatigue damage of the MLG leg, which could result in collapse of the MLG. This action is intended to address the identified unsafe condition.

DATES: Effective April 28, 2004.

The incorporation by reference of a certain publication listed in the regulations is approved by the Director of the Federal Register as of April 28, 2004.

ADDRESSES: The service information referenced in this AD may be obtained from AvCraft Aerospace GmbH, P.O. Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) to include an airworthiness directive (AD) that is applicable to certain Dornier Model 328-100 series airplanes was published in the Federal Register on January 5, 2004 (69 FR 287). That action proposed to require replacement of the existing main landing gear (MLG) leg assembly with a modified assembly.

Comments

Interested persons have been afforded an opportunity to participate in the making of this amendment. No comments were submitted in response to the proposal or the FAA's determination of the cost to the public.

Conclusion

After careful review of the available data, we have determined that air safety and the public interest require the adoption of the rule as proposed.

Cost Impact

We estimate that 53 airplanes of U.S. registry will be affected by this AD, that it will take approximately 8 work hours per airplane to accomplish the required replacement, and that the average labor rate is $65 per work hour. Required parts will be provided by the manufacturer at no charge. Based on these figures, the cost impact of this AD on U.S. operators is estimated to be $27,560, or $520 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-06-01 Fairchild Dornier Gmbh (Formerly Dornier Luftfahrt GmbH): Amendment 39-13527. Docket 2001-NM-400-AD.

Applicability: Model 328-100 series airplanes, certificated in any category, serial numbers (S/Ns) 3005 through 3119 inclusive, equipped with a main landing gear (MLG) leg assembly, main body, or main machined body having a part number (P/N) and S/N listed in Table 1 of this AD.

Table 1.—MLG Leg Assembly, Main Body, and Main Machined Body P/Ns and S/Ns
MLG part name | P/N | S/Ns
Leg assembly | 22730-000-02 | U16 through U22 inclusive.
Leg assembly | 22731-000-02 | U16 through U22 inclusive.
Main body | 22415-000-01 | U16 through U22 inclusive.
Main body | 22416-000-01 | U16 through U22 inclusive.
Main machined body | 24284-000-00 | U56, U62, U64, U66, U68, U70, U74.
Main machined body | 22286-000-00 | U51, U57, U59, U65, U67, U73, U85.

Compliance: Required as indicated, unless accomplished previously.

To prevent fatigue damage of the MLG leg, which could result in collapse of the MLG, accomplish the following:

Replacement of MLG Leg Assembly

(a) Prior to the accumulation of 16,000 total landings on the MLG body, or within 300 flight hours after the effective date of this AD, whichever occurs later, replace the existing MLG leg assembly with a modified leg assembly per Dornier Service Bulletin SB 328-32-344, Revision 1, dated June 11, 2001.

Note 1: Dornier Service Bulletin SB 328-32-344, Revision 1, refers to Messier-Dowty Service Bulletins 800-32-028, dated November 27, 2000; and 800-32-014, dated January 18, 1999; as appropriate sources of service information for modifying the MLG leg assembly.

Alternative Methods of Compliance

(b) In accordance with 14 CFR 39.19, the Manager, International Branch, ANM-116, Transport Airplane Directorate, FAA, is authorized to approve alternative methods of compliance for this AD.

Incorporation by Reference

(c) The actions shall be done in accordance with Dornier Service Bulletin SB 328-32-344, Revision 1, dated June 11, 2001. This incorporation by reference was approved by the Director of the Federal Register in accordance with 5 U.S.C. 552(a) and 1 CFR part 51. Copies may be obtained from AvCraft Aerospace GmbH, P.O. Box 1103, D-82230 Wessling, Germany. Copies may be inspected at the FAA, Transport Airplane Directorate, 1601 Lind Avenue, SW., Renton, Washington; or at the Office of the Federal Register, 800 North Capitol Street, NW., suite 700, Washington, DC.

Note 2: The subject of this AD is addressed in German airworthiness directive 2002-001, dated January 10, 2002.

Effective Date

(d) This amendment becomes effective on April 28, 2004.

Issued in Renton, Washington, on March 5, 2004.
Ali Bahrami,
Acting Manager, Transport Airplane Directorate, Aircraft Certification Service.

[FR Doc. 04-5941 Filed 3-23-04; 8:45 am]

BILLING CODE 4910-13-P